DEPARTMENT OF COMMERCE

National Oceanic and Atmospheric Administration

[RTID 0648-XE179]

Endangered Species; File No. 20347

AGENCY: National Marine Fisheries Service (NMFS), National Oceanic and Atmospheric Administration (NOAA), Commerce.

ACTION: Notice; receipt of application for a permit modification.

SUMMARY: Notice is hereby given that the University of Maine, School of Marine Sciences, 5741 Libby Hall, Orono, ME 04469 (Gayle Zydlewski, Ph.D., Responsible Party), has requested a modification to scientific research Permit No. 20347-01.

DATES: Written comments must be received on or before September 9, 2024.

ADDRESSES: The modification request and related documents are available for review by selecting “Records Open for Public Comment” from the Features box on the Applications and Permits for Protected Species (APPS) home page, https://apps.nmfs.noaa.gov, and then selecting File No. 20347 mod #9 from the list of available applications. These documents are also available upon written request via email to NMFS.Pr1Comments@noaa.gov.

Written comments on this application should be submitted via email to NMFS.Pr1Comments@noaa.gov. Please include File No. 20347 in the subject line of the email comment.

Those individuals requesting a public hearing should submit a written request via email to NMFS.Pr1Comments@noaa.gov. The request should set forth the specific reasons why a hearing on this application would be appropriate.

FOR FURTHER INFORMATION CONTACT: Malcolm Mohead or Erin Markin, Ph.D., (301) 427-8401.

SUPPLEMENTARY INFORMATION: The subject modification to Permit No. 20347-01, issued on March 12, 2019 (84 FR 15595, April 16, 2019), is requested under the authority of the Endangered Species Act of 1973, as amended (16 U.S.C. 1531 et seq.) and the regulations governing the taking, importing, and exporting of endangered and threatened species (50 CFR parts 222-226).

Permit 20347-01 authorizes research on Atlantic sturgeon and shortnose sturgeon occurring in the Gulf of Maine (GOM) and its tributaries, including the Penobscot, Kennebec, Saco and Merrimack Rivers. Adult, sub-adult, and juvenile sturgeon of each species are sampled with nets, trawls, and trotlines, annually, and then measured, weighed, passive integrated transponder tagged, tissue sampled, and photographed. A subset are acoustically tagged, apical scute and fin ray sampled for age analysis, gastric lavaged, borescoped, and blood sampled. Early life stages of both sturgeon species are also collected to document the occurrence of spawning in GOM tributaries. The permit holder requests to increase the number of adult shortnose sturgeon (from 15 to 30) that may be captured in the Merrimack River for implant of telemetry tags to document sturgeon coastal movement as well as provide evidence of sturgeon access to the Lawrence Dam project boundary. The permit is valid through March 31, 2027.

Dated: August 5, 2024.
Julia M. Harrison,
Chief, Permits and Conservation Division, Office of Protected Resources, National Marine Fisheries Service.

[FR Doc. 2024-17623 Filed 8-7-24; 8:45 am]

BILLING CODE 3510-22-P